FEDERAL MARITIME COMMISSION

Ocean Transportation Intermediary License

Reissuance

Notice is hereby given that the following Ocean Transportation Intermediary licenses has been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
17304F | Direct Worldwide Logistics, Inc., 7520 Lawndale Avenue, Houston, TX 77012. | March 20, 2003.
17322N | Trans State Logistics, Inc., 1011 So. Fremont Avenue, Suite 203, Alhambra, CA 91803. | December 8, 2002.
2023F | Pike Shipping Co., Inc., 2 Canal Street, 22nd Floor, New Orleans, LA 70130. | January 10, 2003.
4156F | Gulf Eagle USA, Inc., 502 McCormick Drive, Suite H, Glen Burnie, MD 21061. | July 18, 2002.
4028NF | BNX Shipping Inc., 2029 E. Cashdan Street, Rancho Dominguez, CA 90220. | February 24, 2003.
156F | W. M. Stone & Company, Incorporated, 838 Granby Street, Norfolk, VA 23514. | March 24, 2003.

Sandra L. Kusumoto,
Director, Bureau of Consumer Complaints and Licensing.

[FR Doc. 03-9313 Filed 4-15-03; 8:45 am]

BILLING CODE 6730-01-P